DEPARTMENT OF HEALTH AND HUMAN SERVICES

Office of the Secretary

Extension of Designation of Scarce Materials or Threatened Materials Subject to COVID-19 Hoarding Prevention Measures; Correction of Extension Date

AGENCY: Office of the Secretary (OS), DHHS.

ACTION: Correction.

SUMMARY: This document updates the July 30, 2020, Federal Register Notice entitled “Extension of Designation of Scarce Materials or Threatened Materials Subject to COVID-19 Hoarding Prevention Measures,” by revising the last sentence in the “Summary” section.

FOR FURTHER INFORMATION CONTACT: Paige Ezernack, Office of the Assistant Secretary for Preparedness and Response, Office of Strategy, Policy, Planning, and Requirements, Suite 5440—O'Neill House Office Building, 200 C Street SW, Washington, DC 20201, (202) 260-0365.

SUPPLEMENTARY INFORMATION:

I. Correction of Errors

In FR Doc. 2020-16458 of July 30, 2020 (85 FR 45895-45897), make the following corrections:

On page 48596, first full column, SUMMARY section, change second to last sentence to “This notice, issued on July 23, 2020, extends the March 25 Designation Notice to January 19, 2021.” The expiration date, January 19, 2021 is not 120 days from the date of issuance so remove that reference.

Wilma Robinson,
Deputy Executive Secretary, Department of Health and Human Services.

[FR Doc. 2020-28374 Filed 12-22-20; 8:45 am]

BILLING CODE 4150-28-P